DEPARTMENT OF COMMERCE

Foreign-Trade Zones Board

[Order No. 1258]

Expansion of Foreign-Trade Zone 135, Palm Beach, Florida

Pursuant to its authority under the Foreign-Trade Zones Act of June 18, 1934, as amended (19 U.S.C. 81a-81u), the Foreign-Trade Zones Board (the Board) adopts the following Order:

Whereas, the Port of Palm Beach District, grantee of Foreign-Trade Zone 135, submitted an application to the Board for authority to include an additional site at the Palm Beach Park of Commerce (Site 8) in Palm Beach, Florida, within the West Palm Beach Customs port of entry (FTZ Docket 19-2002; filed April 11, 2002);

Whereas, notice inviting public comment was given in the Federal Register (67 FR 19393, April 19, 2002) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 135 is approved, subject to the Act and the Board's regulations, including § 400.28.

Signed at Washington, DC, this 8th day of 2002.
Faryar Shirzad,
Assistant Secretary of Commerce for Import Administration, Alternate Chairman, Foreign-Trade Zones Board.

Dennis Puccinelli,
Executive Secretary.

[FR Doc. 02-29497 Filed 11-19-02; 8:45 am]

BILLING CODE 3510-DS-P